DEPARTMENT OF COMMERCE

National Oceanic and Atmospheric Administration

[I.D. 092101A]

Endangered Species; Permits

AGENCY: National Marine Fisheries Service (NMFS), National Oceanic and Atmospheric Administration (NOAA), Commerce.

ACTION: Issuance of modification #1 to permit 1260.

SUMMARY: Notice is hereby given of the following actions regarding permits for takes of endangered and threatened species for the purposes of scientific research and/or enhancement under the Endangered Species Act (ESA): NMFS has issued modification #1 to permit 1260 to Dr. Joseph Powers, of the NMFS - Southeast Regional Office (SERO) (1260).

ADDRESSES: The permit, application and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10 (a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

Permits and Modified Permits Issued

Permit #1260

Notice was published on (65 FR 52988) that Dr. Joseph Powers, of SERO applied for a scientific research permit (1260). Permit #1260 was issued on June 18, 2001. The original permit application underwent a 30-day public comment period following notification of receipt in the Federal Register. The applicant addressed all comments submitted on this application. The modification did not under go public review because the activities being authorized under the modification were previously reviewed under the original application or are not different in scope or magnitude than those reviewed in the original application. The requestor currently holds a permit authorizing the take of listed sea turtles in the coastal waters of the Atlantic Ocean and Gulf of Mexico. The research conducted in these areas support the National Marine Fisheries Service sea turtle recovery program. Research activities include: directed in-water research, aerial surveys, resource surveys, and fishery technology testing and implementation. Leatherback, loggerhead, green, hawksbill and Kemp's ridley sea turtles are the focus of the recovery efforts in the southeast region. For modification #1, the applicant has requested take in the Albermarle-Pamlico Sound Complex in North Carolina, coverage of turtle research by observers covering oil rig removal activities in the Gulf of Mexico, addition of turtle species to the Longline gear modification experiments and extension of the permit expiration date. The permit holder has also requested that the permit expiration date be extended to June 30, 2006. Modification #1 to Permit 1260 was issued on September 18, 2001, authorizing take of listed endangered and threatened sea turtles. Permit 1260 expires June 30, 2006.

Dated: September 20, 2001.
Phil Williams,
Acting Chief, Endangered Species Division, Office of Protected Resources, National Marine Fisheries Service.

[FR Doc. 01-24224 Filed 9-26-01; 8:45 am]

BILLING CODE 3510-22-S